DEPARTMENT OF HEALTH AND HUMAN SERVICES

National Institutes of Health

Proposed Collection; 60-Day Comment Request; Autism Spectrum Disorder (ASD) Research Portfolio Analysis, NIMH

AGENCY: National Institutes of Health, HHS.

ACTION: Notice.

SUMMARY: In compliance with the requirement of the Paperwork Reduction Act of 1995 to provide opportunity for public comment on proposed data collection projects, the National Institute of Mental Health (NIMH), National Institutes of Health (NIH), will publish periodic summaries of propose projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: The Office of Autism Research Coordination, NIMH, NIH, Neuroscience Center, 6001 Executive Boulevard, MSC 9663, Room 6184, Bethesda, Maryland, 20892 or can email your request, including your address to: iaccpublicinquiries@mail.nih.gov or nimhprapubliccomments@mail.nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimizes the burden of the collection of information on those who are to respond, including the use of appropriate automated, electronic, mechanical, or other technological collection techniques or other forms of information technology.

Proposed Collection Title: Autism Spectrum Disorder (ASD) Research Portfolio Analysis, NIMH, 0925-0682, expiration date 12/31/2019, EXTENSION, National Institute of Mental Health (NIMH, National Institutes of Health (NIH).

Need and Use of Information Collection: The purpose of the ASD research portfolio analysis is to collect research funding data from U.S. and international ASD research funders, to assist the Interagency Autism Coordinating Committee (IACC) in fulfilling the requirements of the Combating Autism Act, and to inform the committee and interested stakeholders of the funding landscape and current directions for ASD research. Specifically, these analyses will continue to examine the extent to which current funding and research topics align with the IACC Strategic Plan for ASD Research. The findings will help guide future funding priorities by outlining current gaps and opportunities in ASD research as well as serving to highlight annual activities and research progress.

OMB approval is requested for three years. There are no costs to respondents other than their time. The total estimated annualized burden hours are 520.

Estimated Annualized Burden Hours
Type of respondent | Number of respondents | Number of responses per respondent | Average time per response (in hours) | Total annual burden hour
U.S. Federal | 22 | 63 | 15/60 | 347
U.S. Private | 8 | 75 | 15/60 | 150
International Government | 4 | 14 | 15/60 | 14
International Private | 4 | 9 | 15/60 | 9
Total |  | 2,078 |  | 520

Dated: September 23, 2019.
Melba O. Rojas,
Project Clearance Liaison, National Institute of Mental Health, National Institutes of Health.

[FR Doc. 2019-21523 Filed 10-2-19; 8:45 am]

BILLING CODE 4140-01-P